DEPARTMENT OF HEALTH AND HUMAN SERVICES

Centers for Disease Control and Prevention

[30Day-08-05CV]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-4766 or send an e-mail to omb@cdc.gov. Send written comments to CDC Desk Officer, Office of Management and Budget, Washington, DC or by fax to (202) 395-6974. Written comments should be received within 30 days of this notice.

Proposed Project

Survey of 911 Emergency Treatment for Heart Disease and Stroke—New—National Center for Chronic Disease Prevention and Health Promotion (NCCDPHP), Division for Heart Disease and Stroke Prevention (DHDSP), Centers for Disease Control and Prevention (CDC).

Background and Brief Description

CDC's Division for Heart Disease and Stroke Prevention (DHDSP) was established to provide national leadership to reduce the burden of disease, disability, and death from heart disease and stroke through its research and programs. CDC proposes to collect information concerning pre-hospital Emergency Medical Services (EMS) practices needed to develop solutions to the crisis in emergency care and to effectively coordinate national public health interventions in death and disability from heart attacks and stroke. The proposed survey will be conducted with approximately 1,800 local pre-hospital EMS provider organizations to examine staffing and certification configurations, medical oversight, training, and the scope of practice of pre-hospital emergency care specifically for cardiac and stroke emergencies. The survey sample includes all 2,250 local pre-hospital EMS provider organizations in nine proposed states (FL, MA, KS, MT, NM, WI, OR, SC, AR).

The information collection will also include semi-structured interviews with ten directors of sub-state EMS regions. The interviews will examine organizational and administrative aspects of pre-hospital EMS at the state and sub-state levels to explore similarities and differences from state to state. Data analysis will include descriptive statistics for data from the EMS provider survey on pre-hospital field practices and capabilities for cardiac and stroke emergencies in nine states representing all regions of the U.S. It will also include qualitative analysis of information related to state and sub-state EMS organizational and administrative contexts and their influence on local pre-hospital EMS. The information collection will provide for interaction with important stakeholders for partnering and cooperation through the selection of an expert working group to review the survey findings and assist with the development of recommendations.

There are no costs to respondents except their time. The estimated annualized burden hours are 533.

Estimated Annualized Burden Hours

Type of respondents | Form name | No. of respondents | No. of responses per respondent | Average burden per response (in hours)
Supervisor/Manager of EMS Personnel | Screening Script to Identify Supervisor for Interview | 2,250 | 1 | 2/60
| Local EMS Provider Survey | 1,800 | 1 | 15/60
Administrator/Director of Sub-state EMS Region | Topic Guide for Semi-Structured Telephone Interview | 10 | 1 | 45/60

Dated: January 7, 2008.
Maryam I. Daneshvar,
Acting Reports Clearance Officer, Centers for Disease Control and Prevention.

[FR Doc. E8-425 Filed 1-11-08; 8:45 am]

BILLING CODE 4163-18-P